FEDERAL COMMUNICATIONS COMMISSION

[OMB 3060-1243; FR ID 329353]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before April 10, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-1243.

Title: Sections 1.9020(n), 1.9030(m), 1.9035(o), Community notification requirement for certain contraband interdiction systems; Section 20.18(r), Contraband Interdiction System (CIS) requirement; Section 20.23(a), good faith negotiations.

Form Number: N/A.

Respondents: Businesses or other for-profit entities and state, local or Tribal Governments.

Type of Review: Extension of a currently approved collection.

Number of Respondents and Responses: 60 respondents and 182 responses.

Estimated Time per Response: 8-16 hours.

Frequency of Response: On occasion reporting requirement.

Obligation to Respond: There is no obligation to respond; response required to obtain benefits. The statutory authority for this collection is contained in 47 U.S.C. 151, 152, 154(i), 154(j), 301, 302a, 303, 307, 308, 309, 310, and 332.

Total Annual Burden: 1,824 hours.

Total Annual Cost: No cost.

Needs and Uses: On March 24, 2017, the Federal Communications Commission released a Report and Order, Promoting Technological Solutions to Combat Contraband Wireless Devices in Correctional Facilities, GN Docket No. 13-111, FCC 17-25 (Report and Order), in which the Commission took important steps to help law enforcement combat the serious threats posed by the illegal use of contraband wireless devices by inmates. Across the country, inmates have used contraband devices to order hits, run drug operations, operate phone scams, and otherwise engage in criminal activity that endangers prison employees, other inmates, and innocent members of the public. In the Report and Order, the Commission streamlined the process of deploying contraband wireless device interdiction systems—systems that use radio communications signals requiring Commission authorization—in correctional facilities. The action will reduce the cost of deploying solutions and ensure that they can be deployed more quickly and efficiently. In particular, the Commission waived certain filing requirements and provided for immediate approval of the spectrum lease applications needed to operate these systems.

The effectiveness of Contraband Interdiction System (CIS) deployment requires all carriers in the relevant area of the correctional facility to execute a spectrum lease with the CIS provider. Even if the major Commercial Mobile Radio Services (CMRS) licensees negotiate expeditiously and in good faith, if one CMRS licensee in the area fails to engage in lease negotiations in a reasonable time frame or at all, the CIS solution will not be effective. The lack of cooperation of even a single wireless provider in a geographic area of a correctional facility can result in deployment of a system with insufficient spectral coverage, subject to abuse by inmates in possession of contraband wireless devices operating on frequencies not covered by a spectrum lease agreement. While some carriers have been cooperative, it is imperative that all CMRS licensees be required to engage in lease negotiations in good faith and in a timely fashion. Therefore, the Commission adopted a rule requiring that CMRS licensees negotiate in good faith with entities seeking to deploy a CIS in a correctional facility. If, after a 45 day period, there is no agreement, CIS providers seeking Special Temporary Authority (STA) to operate in the absence of CMRS licensee consent may file a request for STA with the Wireless Telecommunications Bureau (WTB), with a copy served at the same time on the CMRS licensee, accompanied by evidence demonstrating its good faith, and the unreasonableness of the CMRS licensee's actions, in negotiating an agreement. The CMRS licensee may then file a response with WTB, with a copy served on the CIS provider at that time, within 10 days of the filing of the STA request.

The supplementary information provided along with the STA application by the CIS provider will be used by WTB to determine whether the CIS provider has negotiated in good faith, yet the CMRS licensee has not negotiated in good faith. The CMRS licensee may use the evidence accompanying the STA application to craft a response. WTB will analyze the evidence from the CIS providers and the CMRS licensee's response to determine whether to issue STA to the entity seeking to deploy the CIS.

The Commission explored whether it should impose a requirement that the community in the vicinity of a correctional facility where a CIS is installed be notified of the installation. The Commission explained that a goal of the proceeding is to expedite the deployment of technological solutions to combat the use of contraband wireless devices, not to impose unnecessary barriers to CIS deployment. Consistent with that goal, the Commission found that a flexible and community-tailored notification requirement for certain CISs outweighed the minimal burden of notification and furthered the public interest. After careful consideration of the record, the Commission imposed a rule that, 10 days prior to deploying a CIS that prevents communications to or from mobile devices, a lessee must notify the community in which the correctional facility is located, and the Commission amended its spectrum leasing rules to reflect this requirement. The Commission agreed with commenters that support notification of the surrounding community due to the potential for accidental call blocking and the public safety issues involved. The information provided in the notification will put the houses and businesses in the surrounding community on notice that a CIS will be deployed in the vicinity that has the potential for accidental call blocking.

Acknowledging the importance of ensuring the availability of emergency 911 calls from correctional facilities, and the fact that delivering emergency calls to public safety answering points (PSAPs) facilitates public safety services and generally serves the public interest, the Commission amended its rules to require that CIS providers regulated as private mobile radio service (PMRS) must route all 911 calls to the local PSAP. That said, the Commission also acknowledged the important role state and local public safety officials play in the administration of the 911 system. Accordingly, although the CIS provider is required to pass through emergency 911 calls, the PSAPs can inform the CIS provider that they do not want to receive calls from a given correctional facility. By allowing the PSAPs to decline the emergency 911 calls, the Commission recognized the reported increased volume of PSAP harassment through repeated inmate fraudulent 911 calls. The information provided by the PSAP or emergency authority will result in the CIS provider not passing through E911 calls from a particular correctional facility.

Federal Communications Commission.
Marlene Dortch,
Secretary, Office of the Secretary.

[FR Doc. 2026-02504 Filed 2-6-26; 8:45 am]

BILLING CODE 6712-01-P